DEPARTMENT OF TRANSPORTATION

Federal Aviation Administration

14 CFR Part 39

[Docket No. FAA-2011-0760; Directorate Identifier 2011-NE-10-AD; Amendment 39-16789; AD 2011-18-07]

RIN 2120-AA64

Airworthiness Directives; WYTWORNIA SPRZETU KOMUNIKACYJNEGO (WSK) “PZL-RZESZOW”—SPOLKA AKCYJNA (SA) PZL—10W Turboshaft Engines

AGENCY: Federal Aviation Administration (FAA), DOT.

ACTION: Final rule; request for comments.

SUMMARY: We are adopting a new airworthiness directive (AD) for the products listed above. This AD results from mandatory continuing airworthiness information (MCAI) issued by an aviation authority of another country to identify and correct an unsafe condition on an aviation product. The MCAI describes the unsafe condition as:

An uncommanded engine in-flight shutdown of a PZL-10W has been recently reported. The investigation has shown that the uncommanded engine in-flight shutdown was due to excessive spline wear on the fuel metering pump shaft.

This condition, if not identified and corrected, may lead to further uncommanded in-flight engine shutdowns and consequent emergency landings of the affected helicopters.

We are issuing this AD to prevent uncommanded engine in-flight shutdown and risk to the helicopter.

DATES: This AD becomes effective October 4, 2011.

We must receive comments on this AD by October 19, 2011.

The Director of the Federal Register approved the incorporation by reference of WSK Obligatory Bulletin No. E-19W147B/DOA/2010 (this bulletin has no issue date), listed in the AD as of October 4, 2011.

ADDRESSES: You may send comments by any of the following methods:

• Federal eRulemaking Portal: Go to http://www.regulations.gov and follow the instructions for sending your comments electronically.

• Mail: U.S. Department of Transportation, 1200 New Jersey Avenue SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (phone: (800) 647-5527) is the same as the Mail address provided in the ADDRESSES section. Comments will be available in the AD docket shortly after receipt.

FOR FURTHER INFORMATION CONTACT: James Lawrence, Aerospace Engineer, Engine Certification Office, FAA, Engine & Propeller Directorate, 12 New England Executive Park, Burlington, MA 01803; e-mail: james.lawrence@faa.gov; phone: (781) 238-7176; fax: (781) 238-7199.

SUPPLEMENTARY INFORMATION:

Discussion

The European Aviation Safety Agency (EASA), which is the Technical Agent for the Member States of the European Community, has issued EASA Airworthiness Directive 2011-0030, dated February 25, 2011, (referred to after this as “the MCAI”), to correct an unsafe condition for the specified products. The MCAI states:

An uncommanded engine in-flight shutdown of a PZL-10W has been recently reported. The investigation has shown that the uncommanded engine in-flight shutdown was due to excessive spline wear on the fuel metering pump shaft.

This condition, if not identified and corrected, may lead to further uncommanded in-flight engine shutdowns and consequent emergency landings of the affected helicopters.

To address this unsafe condition, WSK “PZL-Rzeszów” S.A. has developed an inspection programme of the fuel metering pump shaft.

For the reasons described above, this AD requires an inspection of the fuel metering pump shaft and the accomplishment of the associated corrective actions, as applicable.

You may obtain further information by examining the MCAI in the AD docket.

Relevant Service Information

WSK “PZL-Rzeszów” S.A has issued Obligatory Bulletin No. E-19W147B/DOA/2010 (this bulletin has no issue date). The actions described in this service information are intended to correct the unsafe condition identified in the MCAI.

FAA's Determination and Requirements of This AD

This product has been approved by the aviation authority of Poland, and is approved for operation in the United States. Pursuant to our bilateral agreement with EASA, they have notified us of the unsafe condition described in the MCAI and service information referenced above. We are issuing this AD because we evaluated all information provided by EASA and determined the unsafe condition exists and is likely to exist or develop on other products of the same type design.

FAA's Determination of the Effective Date

Since no domestic operators use this product, notice and opportunity for public comment before issuing this AD are unnecessary. Therefore, we are adopting this regulation immediately.

Comments Invited

This AD is a final rule that involves requirements affecting flight safety, and we did not precede it by notice and opportunity for public comment. We invite you to send any written relevant data, views, or arguments about this AD. Send your comments to an address listed under the ADDRESSES section. Include “Docket No. FAA-2011-0760; Directorate Identifier 2011-NE-10-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-18-07 WYTWORNIA SPRZETU KOMUNIKACYJNEGO (WSK) PZL—Rzeszow” SPOLKA AKCYJNA (SA): Amendment 39-16789; Docket No. FAA-2011-0760; Directorate Identifier 2011-NE-10-AD.

Effective Date

(a) This airworthiness directive (AD) becomes effective October 24, 2011.

Affected ADs

(b) None.

Applicability

(c) This AD applies to WSK PZL-10W series turboshaft engines with a fuel metering pump, part number ALRP-5, installed. These engines are installed on, but not limited to, PZL W-3A and PZL W-3AS helicopters.

Reason

(d) The MCAI states that:

An uncommanded engine in-flight shutdown of a PZL-10W has been recently reported. The investigation has shown that the uncommanded engine in-flight shutdown was due to excessive spline wear on the fuel metering pump shaft.

This condition, if not identified and corrected, may lead to further uncommanded in-flight engine shutdowns and consequent emergency landings of the affected helicopters.

We are issuing this AD to prevent uncommanded engine in-flight shutdown and risk to the helicopter.

Actions and Compliance

(e) Within the compliance time indicated in Table 1 of this AD, perform a one time inspection of spline teeth on the fuel metering pump shaft for excessive wear Use WSK Obligatory Bulletin no. E-19W147B/DOA/2010 (this bulletin has no issue date) to do the inspection.

Table 1
Engine configuration at the effective date of this AD | Compliance time for the inspection
(1) Engine fitted with a fuel metering pump that has accumulated grater than or equal to 1 000 hours of engine operation since new or since last overhaul. | Within 25 hours of engine operation after the effective date of this AD.
(2) Engine fitted with a fuel metering pump that has accumulated less than 1 000 hours since new or since last overhaul. | Before accumulating 1,000 hours of engine operation since new or since last overhaul, or within 25 hours of engine operation after the effective date of this AD, whichever is later.

(3) Do not operate any aircraft with an engine fuel metering pump that fails the inspection required by paragraph (e) of this AD.

(4) After the effective date of this AD, do not install any ALRP-5 fuel pump on an engine unless it passes the inspection required by paragraph (e) of this AD.

FAA AD Differences

(f) This AD doesn't require reporting.

Other FAA AD Provisions

(g) The following provisions also apply to this AD:

Alternative Methods of Compliance (AMOCs)

(1) The Manager, Engine Certification Office, FAA, has the authority to approve AMOCs for this AD, if requested using the procedures found in 14 CFR 39.19.

Paperwork Reduction Act Burden Statement

(2) For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

Related Information

(h) Refer to MCAI Airworthiness Directive 2011-0030, dated February 25, 2011.

(i) Contact James Lawrence, Aerospace Engineer, Engine Certification Office, FAA, Engine & Propeller Directorate, 12 New England Executive Park, Burlington, MA 01803; e-mail: james.lawrence@faa.gov; phone: (781) 238-7176; fax: (781) 238-7199, for more information about this AD.

Material Incorporated by Reference

(j) You must use WYTWÓRNIA SPRZETU KOMUNIKACYJNEGO Obligatory Bulletin No. E-19W147B/DOA/2010 (this bulletin has no issue date), to do the actions required by this AD, unless the AD specifies otherwise.

(1) The Director of the Federal Register approved the incorporation by reference of this service information under 5 U.S.C. 552(a) and 1 CFR part 51.

(2) For service information identified in this AD, contact WYTWÓRNIA SPRZETU KOMUNIKACYJNEGO PZL—Rzeszów” S.A. Hetmańska 120 35-078 RZESZÓW; Poland; phone: (0-17) 8546100, 8546200, fax: (0-17) 8620750.

(3) You may review copies at the FAA, New England Region, 12 New England Executive Park, Burlington, MA; or at the National Archives and Records Administration (NARA). For information on the availability of this material at NARA, call (202) 741-6030, or go to: http://www.archives.gov/federal-register/cfr/ibr-locations.html.

Issued in Burlington, Massachusetts on August 18, 2011.
Peter A. White,
Manager, Engine and Propeller Directorate, Aircraft Certification Service.

[FR Doc. 2011-23930 Filed 9-16-11; 8:45 am]

BILLING CODE 4910-13-P